DEPARTMENT OF LABOR

Employment and Training Administration

Comment Request for Information Collection for Contractor Information Gathering, Extension Without Revisions

AGENCY: Employment and Training Administration (ETA), Labor.

ACTION: Notice.

SUMMARY: The Department of Labor (Department), as part of its continuing effort to reduce paperwork and respondent burden, conducts a preclearance consultation program to provide the public and Federal agencies with an opportunity to comment on proposed and/or continuing collections of information in accordance with the Paperwork Reduction Act of 1995 [44 U.S.C. 3506(c)(2)(A)].

This program helps ensure that requested data can be provided in the desired format, reporting burden (time and financial resources) is minimized, collection instruments are clearly understood, and the impact of collection requirements on respondents can be properly assessed. Currently, ETA is soliciting comments concerning the collection of data about Standard Job Corps Request for Proposal and related contractor information gathering and reporting requirements (expiration date November 30, 2012).

DATES: Written comments must be submitted to the office listed in the addresses section below on or before January 25, 2013.

ADDRESSES: Submit written comments to Lawrence Lyford, Office of Job Corps, Room N-4507, Employment and Training Administration, U.S. Department of Labor, 200 Constitution Avenue NW., Washington, DC 20210. Telephone number: 202-693-3121 (this is not a toll-free number). Individuals with hearing or speech impairments may access the telephone number above via TTY by calling the toll-free Federal Information Relay Service at 877-889-5627 (TTY/TDD). Fax: 202-693-3113. Email: lyford.lawrence@dol.gov.

SUPPLEMENTARY INFORMATION:

I. Background

Job Corps is the nation's largest residential, educational, and career technical training program for young Americans. Job Corps was established in 1964 by the Economic Opportunity Act and currently is authorized by Title I-C of the Workforce Investment Act of 1998. For nearly 50 years, Job Corps has helped prepare nearly 3 million at-risk young people between the ages of 16 and 24 for success in our nation's workforce. With 125 centers in 48 states, Puerto Rico, and the District of Columbia, Job Corps assists students across the nation in attaining academic credentials, including a High School Diploma (HSD) and/or General Educational Development (GED), and career technical training credentials, including industry-recognized certifications, state licensures, and pre-apprenticeship credentials.

Job Corps is a national program administered by the U.S. Department of Labor (DOL) through the National Office of Job Corps and six Regional Offices. DOL awards and administers contracts for the recruiting and screening of new students, center operations, and the placement and transitional support of graduates and former enrollees. Large and small corporations and nonprofit organizations manage and operate 97 Job Corps centers under contractual agreements with DOL. These contract center operators are selected through a competitive procurement process that evaluates potential operators' technical expertise, proposed costs, past performance, and other factors, in accordance with the Competition in Contracting Act and the Federal Acquisition Regulations. The remaining 28 Job Corps centers, called Civilian Conservation Centers, are operated by the U.S. Department of Agriculture Forest Service, via an interagency agreement.

II. Review Focus

The Department is particularly interested in comments which:

• Evaluate whether the proposed collection of information is necessary for the proper performance of the functions of the agency, including whether the information will have practical utility;

• evaluate the accuracy of the agency's estimate of the burden of the proposed collection of information, including the validity of the methodology and assumptions used;

• enhance the quality, utility, and clarity of the information to be collected; and

• minimize the burden of the collection of information on those who are to respond, including through the use of appropriate automated, electronic, mechanical, or other technological collection techniques or other forms of information technology, e.g., permitting electronic submissions of responses

III. Current Actions

The Request for Proposal (RFP) provides potential offerors with the Government's expectations for the development of proposals to operate Job Corps centers. The proposals developed by offerors in response to the RFP are evaluated in terms of technical factors and costs. These proposals serve as the principal basis for selection of a successful offeror. The operation of the Job Corps program is such that many activities required of contractors must be coordinated with other organizations, both Federal and nonfederal. Most of the information collection requirements of Job Corps center operators stem directly from operational needs or are necessary to ensure compliance with Federal requirements and the terms of the contract.

Statistical reports are typically generated from source documents directly by the Federal government, not the contractors. Data is entered directly into a database and reports are generated from the data. Examples of these data include are ETA Forms 2110 (Center Financial Report), 2181 & 2181A (Center Operations Budget), 6-127 (Job Corps Utilization Summary), 6-131A (Disciplinary Discharge), 6-131B (Review Board Hearings), 6-131C (Rights to Appeal), 6-40 (Student Profile), 6-61 (Notice of Termination) and 3-38 (Property Inventory Transcription.)

In addition, several forms are provided in Portable Data File (PDF) format. These forms include the 6-125 (Job Corps Health Staff Activity), 6-128 (Job Corps Health Annual Service Costs), 6-112 (Immunization Record), 6-135 (CM Health Record Envelope), 6-136 (CM Health Record Folder), 6-37 (Inspection Residential & Educational Facilities), 6-38 (Inspection Water Supply Facilities), and 6-39 (Inspection of Waste Treatment Facilities Costs).

Type of Review: extension without changes

Title: Standard Job Corps Contractor Information Gathering

OMB Number: 1205-0219

Affected Public: Business, for profit and not-for-profit institutions, and Tribal governments.

Recordkeeping: Center operators are required to keep accurate records on each Job Corps student. All records are required to be maintained on a Job Corps center for five years. The annual burden hours estimated for the preparation of the Standard Center Job Corps Request for Proposal submitted by new and experienced contractors is 16,183 hours. Data collection for the Center Financial and the Center Operations Budget Reports is made more than quarterly, and is essential to ensure contractor financial compliance with contractual requirements and to ensure operation of the program.

Required activity | ETA Form No. | Number of respondents | Submissions per year | Total annual submissions | Hours per submission | Total burden hours
Center Financial Report | 2110 | 125 | 12 | 1500 | 1 | 1500
Center Operations Budget | 2181/2181/A | 97 | 3 | 291 | 1 | 291
Total |  |  |  |  |  | 1,791

Center staff members enter data utilizing a personal computer that transmits the data electronically to a centralized database. Many management and performance reports are created from this database.

Required activity | ETA Form No. | Number of respondents | Submissions per year | Total annual submissions | Hours per submission | Total burden hours
Job Corps Utilization Summary | 6-127 | 125 | 12 | 1500 | 0.01875 (1 minute) | 25
Disciplinary Discharge | 6-131A | 1500 | 1 | 1500 | 0.01875 | 25
Review Board Hearings | 6-131B | 1500 | 1 | 1500 | 0.01875 | 25
Rights to Appeal | 6-131C | 1500 | 1 | 1500 | 0.01875 | 25
Student Profile | 6-40 | 1500 | 1 | 1500 | 0.01875 | 25
Notice of Termination | 6-61 | 1500 | 1 | 1500 | 0.01875 | 25
Property Inventory Transcription | 3-28 | 126 | 52 | 6552 | 0.0275 (3 minutes) | 328
Total |  |  |  |  |  | 478

Certain student personnel requirements such as student payroll information, student training and education courses received, student leave, disciplinary actions and medical information are also collected in an electronic information system. The initial data entry is maintained in the national database and used for multiple reporting purposes, therefore reducing the need to enter the data more than once. The total burden associated with the input of data to data screens is 20,847 hours.

Major recordkeeping and operational forms listed below that pertain to student and facility administrative matters are provided in PDF forms. The total burden for processing these forms is 38,574 hours.

Required activity | ETA Form No. | Number of respondents | Submissions per year | Total annual submissions | Hours per submission | Total burden hours
Job Corps Health Staff Activity | 6-125 | 125 | 1 | 125 | 0.25 (25 min) | 31
Job Corps Health Annual Service Costs | 6-128 | 125 | 1 | 125 | 0.25 | 31
Immunization Record | 6-112 | 71000 | 1 | 71000 | 0.05 (5 min) | 3,550
CM Health Record Envelope | 6-135 | 71000 | 1 | 71000 | 0.125 (13 min) | 8,875
CM Health Record Folder | 6-136 | 71000 | 1 | 71000 | 0.125 | 8,875
Inspection of Residential & Educational Facilities | 6-37 | 125 | 4 | 500 | 0.5 | 250
Inspection of Waste Treatment Facilities Costs | 6-39 | 23 | 4 | 92 | 1.25 (1hr. 25 min) | 130
Inspection Water Supply Facilities | 6-38 | 125 | 4 | 500 | 1.25 | 625
Total |  |  |  |  |  | 22,367

A total of 8,625 burden hours are estimated for the preparation of the Center Operating Plans listed below that are required for the operation of a Job Corps center.

Required activity | ETA Form No. | Number of respondents | Submissions per year | Total annual submissions | Hours per submission | Total burden hours
Center Operation Plan |  | 125 | 1 | 125 | 30 | 3750
Maintenance |  | 125 | 1 | 125 | 5 | 625
C/M Welfare |  | 125 | 1 | 125 | 2 | 250
Annual VST |  | 125 | 1 | 125 | 24 | 3,000
Annual Staff Training |  | 125 | 1 | 125 | 1 | 125
Energy Conservation |  | 125 | 1 | 125 | 5 | 625
Outreach |  | 125 | 1 | 125 | 2 | 250
Total |  |  |  |  |  | 8,625

Total Estimated Burden: 65,651 hours.

Total Burden Cost (Capital/Startup): The Office of Job Corps has automated the data collection process for its centers. The Center Information System allows all centers to directly input data into a national database. The maintenance cost associated with the system is estimated to be $2.7 million per year for hardware and software.

Total Burden Cost (Operating/Maintaining): The costs to contractors for accomplishing record keeping requirements are computed by the Federal government annually. While precise costs cannot be identified, at the present time and based on past experience, the annual related costs for contractor staff are estimated to be $992,658, which represents an average cost of $15.12 per hour.

Comments submitted in response to this comment request will be summarized and/or included in the request for Office of Management and Budget approval of the information collection request; they will also become a matter of public record.

Dated: Signed in Washington, DC, on this 3rd day of October, 2012.
Jane Oates,
Assistant Secretary for Employment and Training, Labor.

[FR Doc. 2012-28563 Filed 11-23-12; 8:45 am]

BILLING CODE 4510-FT-P